DEPARTMENT OF AGRICULTURE

Forest Service

Wild and Scenic River Suitability Study for National Forest System Lands in Utah; Ashley, Dixie, Fishlake, Manti-La Sal, Uinta, and Wasatch-Cache National Forests; Utah

AGENCY: Forest Service, USDA.

ACTION: Notice of intent to prepare a legislative environmental impact statement.

SUMMARY: The Forest Service, in cooperation with the State of Utah, will prepare a draft and final legislative environmental impact statement (LEIS) to complete the process for giving consideration to potential national wild, scenic, and recreational river areas on the National Forests in Utah under the Wild and Scenic Rivers Act. Portions of those National Forests extend into Colorado and Wyoming, and those areas will be included in the study. The Forest Service has evaluated river segments on these National Forests to determine which ones meet criteria for eligibility for inclusion in the National Wild and Scenic Rivers System. The purpose of the LEIS is to determine which eligible river segments are suitable for inclusion in the National Wild and Scenic Rivers System. More information including: the full text of the proposal, a list of eligible river segments by county and forest, and a map showing eligible river segments is posted on the web at: http://www.fs.fed.us/r4/rivers/.

The Forest Service invites written comments and suggestions on the suitability of eligible river segements for designation as wild, scenic, or recreational rivers. The Forest Service gives notice of the environmental analysis and determinations that will occur as a result of this study so that interested and affected people are aware of how they may participate and contribute to the final determination of suitability for inclusion in the National Wild and Scenic Rivers System.

DATES: Comments concerning the scope of the analysis will be most useful if submitted on or before June 30, 2007. The draft legislative environmental impact statement is expected in November 2007 and the final legislative environmental impact statement is expected to be completed by the summer of 2008.

ADDRESSES: Send written comments concerning the suitability of the river segments to: Catherine Kahlow, USFS WSR Team Leader, Attention: WSR, P.O. Box 68, Kamas, UT 84036. Comments can also be hand delivered Monday through Friday 8:00 am to 4:30 pm at: 50 East Center Street in Kamas, Utah. In addition, comments can be submitted electronically to: r4_utah_rivers@fs.fed.us on or before June 30, 2007.

FOR FURTHER INFORMATION CONTACT: Visit the website for up-to-date information at: http://www.fs.fed.us/r4/rivers/ or contact Catherine Kahlow, USFS WSR Team Leader (see previous address information). For information regarding meetings or media inquiries contact: Loyal Clark, USFS Public Affairs Officer (Northern Utah) at (801) 342-5117 or Kenton Call, USFS Public Affairs Officer (Southern Utah) at (435) 865-3730.

SUPPLEMENTARY INFORMATION:

Purpose and Need for Action

This Forest Service proposes to complete the process for considering potential national wild, scenic, and recreational river areas on the National Forest System lands in Utah under the Wild and Scenic Rivers Act. The purpose of and need for this study is to assess whether or not eligible river segments should be recommended to Congress for inclusion in the National Wild and Scenic Rivers System.

Proposed Action

The Forest Service is proposing to conduct an environmental analysis to complete the process for considering potential national wild, scenic, and recreational river areas on the National Forests in Utah under the Wild and Scenic Rivers Act. This action is conducted pursuant to the Wild and Scenic Rivers Act of 1968 (Public Law 90-542) and complies with the National Environmental Policy Act (NEPA) of 1969.

The final record of decision may also include amendments to the Land and Resource Management Plans for the Utah National Forests to provide direction for management of river segments determined to be suitable for inclusion in the National Wild and Scenic Rivers System.

Background: Over the past decade, National Forests in Utah have evaluated river segments on the National Forest for potential eligibility for designation under the National Wild and Scenic Rivers System. The majority of the eligibility inventory and tentative classification took place during forest land and resource management plan revision processes. However, eight river segments on the Dixie National Forest were analyzed in conjunction with the Bureau of Land Management (BLM) in the Grand Staircase Escalante National Monument Management Plan.

In order to be eligible, a river segment must be free-flowing and must possess at least one outstandingly remarkable value. River segments determined to be eligible were assigned a potential classification as wild, scenic, or recreational based on the level of development and access along the river corridor.

Forest Supervisors proposed interim direction for the management of activities and uses that have the potential to affect the outstandingly remarkable values and/or the wild, scenic, or recreational classification of the eligible river segments until such a time that the suitability studies are completed and a new management emphasis is developed.

The eligibility process has largely been completed for all National Forests in Utah. The purpose of this study is to further evaluate the suitability of eligible river segements for inclusion in the National Wild and Scenic Rivers System.

A suitability study is the final administrative step before a recommendation is made to Congress. Evaluation of suitability will provide an opportunity to determine if it will be appropriate to pursue Congressional designation for specific river segments. The Forest Service and State of Utah will consider, but not be limited to, the following: “worthy additions” to the National System; tradeoffs in management scenarios other than designation; land ownership status; existing and potential uses of that segment; interest expressed by the public, and tribal, Federal, State, and local agencies; estimated costs for management and protection of identified outstandingly remarkable values; ability of agency to manage and/or protect the river; and, historical and existing uses which could be affected. The Wild and Scenic Rivers Team will evaluate the suitability of the eligible river segments together in one analysis to maintain consistency and to complete the work efficiently.

Possible Alternatives

A range of alternatives will be considered. The range of alternatives will include, as required be NEPA, a no action alternative that does not recommend any eligible river segment for designation into the National Wild and Scenic Rivers System, and may include an alternative that recommends designation of all eligible rivers (All Suitable). Additional alternatives may be developed from information analyzed during the suitability study, including public comments received during the scoping process.

Cooperating Agencies

The State of Utah is a Cooperating Agency.

Responsible Officials

Kevin B. Elliott, Ashley National Forest, 355 North Vernal Avenue, Vernal, Utah 84078;

Rob MacWhorter, Dixie National Forest, 1789 North Wedgewood Lane, Cedar City, Utah 84720;

Mary C. Erickson, Fishlake National Forest, 115 East 900 North, Richfield, Utah 84701;

Alice B. Carlton, Manti-La Sal National Forest, 599 West Price River Dr., Price, Utah 84501;

Brian A. Ferebee, Uinta National Forest, 88 West 100 North, Provo, Utah 84601;

Faye L. Krueger, Wasatch-Cache National Forest, 125 South State Street, Salt Lake City, Utah 84138.

Nature of Decision To Be Made

The record of decision will answer the following question: Which, if any, of the eligible river segments under consideration should be recommended to the Congress of the United States for inclusion in the National Wild and Scenic Rivers System?

Scoping Process

Public participation is especially important at several points in the study process. The first is the scoping process. The Forest Service is seeking information and comments from Federal, State, and local agencies, Tribes, organizations, and individuals who may be interested in or affected by the proposed action. Public input will be considered during preparation of the Draft LEIS.

Scoping meetings will be held around the State of Utah and in Paradox, Colorado and Lyman, Wyoming during May and June of 2007. For a list of meeting dates and locations, please check the WSR Web site at: http://www.fs.fed.us/r4/rivers.

Comment Requested

This notice of intent initiates the scoping process which guides the development of the environmental impact statement. This suitability study is driven by suitability factors that will shape the analysis of each river segment. These suitability factors are used to identify and evaluate the trade-offs between competing uses and need for potential designation of these rivers to the Wild and Scenic River System. Suitability factors are noted on the website at http://www.fs.fed.us/r4/rivers. Comment on the application of existing suitability factors, additional factors for the agency to consider, potential alternatives to analyze and other related specific comments is requested.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: April 24, 2007.
Faye L. Krueger,
Wasatch-Cache Forest Supervisor.

[FR Doc. E7-8149 Filed 4-27-07; 8:45 am]

BILLING CODE 3410-11-P